DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: NIST Construction Grant Program Applicant Requirements.

Form Number(s): NIST-1101, NIST-1101A, and NIST-1102.

OMB Control Number: 0693-0055.

Type of Request: Regular submission (extension).

Burden Hours: 125,000.

Number of Respondents: 250.

Average Hours per Response: 500.

Needs and Uses: The NIST Construction Grant Program (Program) is a competitive financial assistance (grant) program for research science buildings through the construction of new buildings or expansion of existing buildings. For purposes of this program, (1) “research science building” means a building or facility whose purpose is to conduct scientific research, including laboratories, test facilities, measurement facilities, research computing facilities, and observatories; and (2) “expansion of existing buildings” means that space to conduct scientific research is being expanded from what is currently available for the supported research activities.

This request is for the information collection requirements associated with requesting proposals. The information will be used to make final selections of funding recipients.

Affected Public: Not-for-profit institutions.

Frequency: Annually.

Respondent's Obligation: Required to obtain benefits.

OMB Desk Officer: Jasmeet Seehra, (202) 395-3123.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Jasmeet Seehra, OMB Desk Officer, FAX number (202) 395-5806 or via the Internet at Jasmeet_K._Seehra@omb.eop.gov.

Dated: November 19, 2009.
Gwellnar Banks,
Management Analyst, Office of the Chief Information Officer.

[FR Doc. E9-28121 Filed 11-23-09; 8:45 am]

BILLING CODE 3510-13-P